ENVIRONMENTAL PROTECTION AGENCY

[FRL-6602-1]

Agency Information Collection Activities: Submission for OMB Review; Comment Request, Mobile Air Conditioner Retrofitting Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval:

Title: Mobile Air Conditioner Retrofitting Program, OMB Control Number 2060-0350, expiration date 5/31/00. The ICR describes the nature of the information collection and its expected burden and cost; where appropriate, it includes the actual data collection instrument.

DATES: Comments must be submitted on or before June 7, 2000.

FOR FURTHER INFORMATION CONTACT: For a copy of the ICR contact Sandy Farmer at EPA by phone at (202) 260-2740, by E-Mail at Farmer.Sandy@epamail.epa.gov or download off the Internet at http://ww.epa.gov/icr and refer to EPA ICR No. 1774.02. For Technical questions about the ICR contact Anhar Karimjee at (202) 564-2683.

SUPPLEMENTARY INFORMATION: Title: Information Collection Activities Associated with EPA's Mobile Air Conditioner Retrofitting Program, OMB Control Number 2060-0350, EPA ICR Number 1774.02, expiration date 5/31/00. This is a request for extension of a currently approved collection.

Abstract: EPA is concerned that the existence of several substitutes in this end-use may increase the likelihood of significant refrigerant cross-contamination and potential failure of both air conditioning systems and recovery/recycling equipment. The purpose of this Information Collection Request (ICR) is to estimate the burden associated with the 40 Code of Federal Regulations part 82 requirement that service technicians label mobile air conditioners with information about new refrigerants when they retrofit a system. These labels acknowledge that the retrofitting has been completed, and that the mobile air conditioner cannot accept chloroflourocarbon (CFC) refrigerant. In addition, the labels provide essential information to technicians about the specific refrigerant used in the air conditioning system. This information assists the technician in avoiding service practices that might result in cross-contamination and system failure. Responses to the collection of information are mandatory (section 612 of the Clean Air Act and 40 Code of Federal Regulations part 82).

An agency may not conduct or sponsor, and a person is not required to respond to, collection of information unless it displays a currently valid OMB control number. The OMB control numbers of EPA's regulations are listed in 40 CFR part 9 and 48 CFR Chapter 15. The Federal Register document required under 5 CFR 1320.8(d), soliciting comments on this collection of information was published on 11/10/99; No comments were received.

Burden Statement: The annual public reporting and recordkeeping burden for this collection of information is estimated to average 5 minutes per response. Burden means that total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Service technicians at new and used car dealers, gas service stations, top and body repair shops, general automotive repair shops, automotive repair shops not elsewhere classified, including air conditioning and radiator specialty shops.

Estimated Number of Respondents; 140,000.

Frequency of Response: Once per retrofitted car.

Estimated Total Annual Hour Burden: 416,667 hours.

Estimated Total Annualized Capital, O&M Cost Burden: $500,000.

Send comments on the Agency's need for this information, the accuracy of the provided burden estimates, and any suggested methods for minimizing respondent burden, including through the use of automated collection techniques to the following addresses. Please refer to EPA ICR No. 1774.02 and OMB Control No. 2060-0350 in any correspondence.

Ms. Sancy Farmer, U.S. Environmental Protection Agency, Office of Environmental Information, Collection Strategies Divison (2822), 1200 Pennsylvania Ave., NW, Washington, DC 20460;

and

Office of Information and Regulatory Affairs, Office of Management and Budget, Attention: Desk Officer for EPA, 725 17th Street, NW, Washington, DC 20503.

Oscar Morales,
Director, Collection Strategies Division.

[FR Doc. 00-11431 Field 5-5-00; 8:45 am]

BILLING CODE 6560-50-P